DEPARTMENT OF COMMERCE

Economic Development Administration

Notice of Petitions by Producing Firms for Determination of Eligibility To Apply for Trade Adjustment Assistance

AGENCY: Economic Development Administration (EDA), Commerce.

ACTION: To Give Firms an Opportunity to Comment.

List of Petition Action by Trade Adjustment Assistance for Period October 6, 2000-November 21, 2000
Firm name | Address | Date petition accepted | Product
Cahill Manufacturing Co., Inc | 1032 Cahill Court, Danville, VA 24541 | 10/20/00 | Tire manufacturing machinery.
Quality Trim, Inc | 3645 Clark Avenue, St. Louis, MO 63110 | 10/31/00 | Leather, vinyl and cloth ornamental trimmings for the hat, footwear and handbag industries.
S&W Innovative Solutions, Inc | 115 Court Street, Binghamton, NY 13901 | 10/31/00 | Service Company.
Starco Corporation | 2001 Shenandoah Ave., N.W., Roanoke, VA 24017 | 10/31/00 | Automotive parts, starters and alternators.
McCarthy Orchard | 8405 Clear Creek Road, Parkdale, OR 97041 | 10/31/00 | Pears.
A.T. Cross Company, Inc | One Albion Road, Lincoln, RI 02865 | 11/06/00 | Ball point pens, pen and pencil sets and mechanical pencils.
Strong Group, Inc | 105 Maplewood Avenue, Gloucester, MA 01930 | 11/06/00 | Leather goods— organizers, planner cases, binders, computer cases, desk pads, etc.
M. Goe & Son, Inc | 3268 Ehrck Hill Road, Hood River, OR 97031 | 11/06/00 | Pears.
Tough Traveler, Ltd | 1012 State Street, Schenectady, NY 12307 | 11/06/00 | Backpack child carriers.
Clinton Industries, Inc | 700 Washington Ave, Carlstadt, NJ 07072 | 11/07/00 | Mechanical chain cutters and parts for industrial sawing machines.
Jubilee Embroidery, Inc | 411 Highway 601 South, Lugoff, SC 29078 | 11/07/00 | Man-made and cotton embroidery.
Gibbons Surgical Corporation | 153 S. Birdneck Road, Virginia Beach, VA 23451 | 11/16/00 | Surgical instruments.
R & M Apparel, Inc | 721 Donahue Street, Gallitzin, PA 16641 | 11/16/00 | Blouses and shirts of cotton.
Blough-Wagner Manuf. Co., Inc | Shuman Street, Middleburg, PA 17842 | 11/21/00 | Ladies sportswear and sweatshirts.
G & H Industries, Inc | 419 Eleanor Street, Centreville, MI 49032 | 11/21/00 | Electronic audio connectors and cables.

The petitions were submitted pursuant to section 251 of the Trade Act of 1974 (19 U.S.C. 2341). Consequently, the Department of Commerce has initiated separate investigations to determine whether increased imports into the United States of articles like or directly competitive with those produced by each firm contributed importantly to total or partial separation of the firm's workers, or threat thereof, and to a decrease in sales or production of each petitioning firm.

Any party having a substantial interest in the proceedings may request a public hearing on the matter. A request for a hearing must be received by Trade Adjustment Assistance, Room 7315, Economic Development Administration, U.S. Department of Commerce, Washington, DC 20230, no later than the close of business of the tenth calendar day following the publication of this notice.

The Catalog of Federal Domestic Assistance official program number and title of the program under which these petitions are submitted is 11.313, Trade Adjustment Assistance.
Dated: November 17, 2000.
Anthony J. Meyer,
Coordinator, Trade Adjustment and Technical Assistance.

[FR Doc. 00-30223 Filed 11-27-00; 8:45 am]

BILLING CODE 3510-24-P